DEPARTMENT OF HOMELAND SECURITY

Coast Guard

33 CFR Parts 100 and 165

[Docket No. USCG-2011-0369]

Special Local Regulations and Safety Zones; Recurring Events in Northern New England

AGENCY: Coast Guard, DHS.

ACTION: Notice of enforcement of regulations.

SUMMARY: The Coast Guard is announcing specific dates and times for Special Local Regulations and Safety Zones occurring in the Northern New England Captain of the Port Zone. This action is necessary to protect marine traffic and spectators from the hazards associated with powerboat races, regattas, boat parades, rowing and paddling boat races, swim events, and fireworks displays. During the enforcement period, no person or vessel may enter the Special Local Regulation area or Safety Zone without permission of the Captain of the Port.

DATES: The regulations for events described in 33 CFR 100.120 and 33 CFR 165.171 will be enforced during the times and dates specified in Table 1 and Table 2, respectively. The earliest event is May 27, 2011, and the latest event is September 23, 2011.

FOR FURTHER INFORMATION CONTACT: If you have questions on this notice, call or e-mail Lieutenant Junior Grade Terence Leahy, Waterways Management Division at Coast Guard Sector Northern New England, telephone 207-767-0398, e-mail Terence.O.Leahy@uscg.mil.

SUPPLEMENTARY INFORMATION: The Coast Guard will enforce the Special Local Regulations and Safety Zones listed in 33 CFR 100.120 and 33 CFR 165.171. These regulations will be enforced for the duration of each event, on the dates indicated in Tables 1 and 2.

Table 1
[For events described in 33 CFR 100.120]
5.0 | MAY
5.1 Tall Ships Visiting Portsmouth | • Event Type: Regatta and Boat Parade.
| • Sponsor: Portsmouth Maritime Commission, Inc.
| • Date: May 27 to 31, 2011.
| • Time: 9 a.m. to 8 p.m. each day.
| • Location: The regulated area includes all waters of Portsmouth Harbor, New Hampshire in the vicinity of Castle Island within the following points (NAD 83):
| 43°03′11″ N, 070°42′26″ W.
| 43°03′18″ N, 070°41′51″ W.
| 43°04′42″ N, 070°42′11″ W.
| 43°04′28″ N, 070°44′12″ W.
| 43°05′36″ N, 070°45′56″ W.
| 43°05′29″ N, 070°46′09″ W.
| 43°04′19″ N, 070°44′16″ W.
| 43°04′22″ N, 070°42′33″ W.
6.0 | JUNE
6.1 Bar Harbor Blessing of the Fleet | • Event Type: Regatta and Boat Parade.
| • Sponsor: Town of Bar Harbor, Maine.
| • Date: June 5, 2011.
| • Time: 12 p.m. to 1:30 p.m.
| • Location: The regulated area includes all waters of Bar Harbor, Maine within the following points (NAD 83):
| 44°23′32″ N, 068°12′19″ W.
| 44°23′30″ N, 068°12′00″ W.
| 44°23′37″ N, 068°12′00″ W.
| 44°23′35″ N, 068°12′19″ W.
6.2 Charlie Begin Memorial Lobster Boat Races | • Event Type: Power Boat Race.
| • Sponsor: Boothbay Harbor Lobster Boat Race Committee.
| • Date: June 18, 2011.
| • Time: 10 a.m. to 3 p.m.
| • Location: The regulated area includes all waters of Boothbay Harbor, Maine in the vicinity of within John's Island the following points (NAD 83):
| 43°50′04″ N, 069°38′37″ W.
| 43°50′54″ N, 069°38′06″ W.
| 43°50′49″ N, 069°37′50″ W.
| 43°50′00″ N, 069°38′20″ W.
6.3 Rockland Harbor Lobster Boat Races | • Event Type: Power Boat Race.
| • Sponsor: Rockland Harbor Lobster Boat Race Committee.
| • Date: June 19, 2011.
| • Time: 9 a.m. to 5 p.m.
| • Location: The regulated area includes all waters of Rockland Harbor, Maine in the vicinity of the Rockland Breakwater Light within the following points (NAD 83):
| 44°05′59″ N, 069°04′53″ W.
| 44°06′43″ N, 069°05′25″ W.
| 44°06′50″ N, 069°05′05″ W.
| 44°06′05″ N, 069°04′34″ W.
6.4 Windjammer Days Parade of Ships | • Event Type: Tall Ship Parade.
| • Sponsor: Boothbay Region Chamber of Commerce.
| • Date: June 22, 2011.
| • Time: 12 p.m. to 5 p.m.
| • Location: The regulated area includes all waters of Boothbay Harbor, Maine in the vicinity of Tumbler's Island within the following points (NAD 83):
| 43°51′02″ N, 069°37′33″ W.
| 43°50′47″ N, 069°37′31″ W.
| 43°50′23″ N, 069°37′57″ W.
| 43°50′01″ N, 069°37′45″ W.
| 43°50′01″ N, 069°38′31″ W.
| 43°50′25″ N, 069°38′25″ W.
| 43°50′49″ N, 069°37′45″ W.
7.0 | JULY
7.1 Moosabec Lobster Boat Races | • Event Type: Power Boat Race.
| • Sponsor: Moosabec Boat Race Committee.
| • Date: July 2, 2011.
| • Time: 10 a.m. to 12:30 p.m.
| • Location: The regulated area includes all waters of Jonesport, Maine within the following points (NAD 83):
| 44°31′21″ N, 067°36′44″ W.
| 44°31′36″ N, 067°36′47″ W.
| 44°31′44″ N, 067°35′36″ W.
| 44°31′29″ N, 067°35′33″ W.
7.2 The Great Race | • Event Type: Rowing and Paddling Boat Race.
| • Sponsor: Franklin County Chamber of Commerce.
| • Date: July 3, 2011.
| • Time: 10 a.m. to 12:30 p.m.
| • Location: The regulated area includes all waters of Lake Champlain in the vicinity of Saint Albans Bay within the following points (NAD 83):
| 44°47′18″ N, 073°10′27″ W.
| 44°47′10″ N, 073°08′51″ W.
7.3 Searsport Lobster Boat Races | • Event Type: Power Boat Race.
| • Sponsor: Searsport Lobster Boat Race Committee;
| • Date: July 9, 2011.
| • Time: 9 a.m. to 4 p.m.
| • Location: The regulated area includes all waters of Searsport Harbor, Maine within the following points (NAD 83):
| 44°26′50″ N, 068°55′20″ W.
| 44°27′04″ N, 068°55′26″ W.
| 44°27′12″ N, 068°54′35″ W.
| 44°26′59″ N, 068°54′29″ W.
7.4 Stonington Lobster Boat Races | • Event Type: Power Boat Race.
| • Sponsor: Stonington Lobster Boat Race Committee.
| • Date: July 10, 2011.
| • Time: 8 a.m. to 3:30 p.m.
| • Location: The regulated area includes all waters of Stonington, Maine within the following points (NAD 83):
| 44°08′55″ N, 068°40′12″ W.
| 44°09′00″ N, 068°40′15″ W.
| 44°09′11″ N, 068°39′42″ W.
| 44°09′07″ N, 068°39′39″ W.
7.5 Mayor's Cup Regatta | • Event Type: Sailboat Parade.
| • Sponsor: Plattsburgh Sunrise Rotary.
| • Date: July 9, 2011.
| • Time: 10 a.m. to 4 p.m.
| • Location: The regulated area includes all waters of Cumberland Bay on Lake Champlain in the vicinity of Plattsburgh, New York within the following points (NAD 83):
| 44°39′26″ N, 073°26′25″ W.
| 44°41′27″ N, 073°23′12″ W.
7.6 The Challenge Race | • Event Type: Rowing and Paddling Boat Race.
| • Sponsor: Lake Champlain Maritime Museum.
| • Date: July 10, 2011.
| • Time: 11 a.m. to 3 p.m.
| • Location: The regulated area includes all waters of Lake Champlain in the vicinity of Button Bay State Park within the following points (NAD 83):
| 44°12′25″ N, 073°22′32″ W.
| 44°12′00″ N, 073°21′42″ W.
| 44°12′19″ N, 073°21′25″ W.
| 44°13′16″ N, 073°21′36″ W.
7.7 Friendship Lobster Boat Races | • Event Type: Power Boat Race.
| • Sponsor: Friendship Lobster Boat Race Committee.
| • Date: July 23, 2011.
| • Time: 9:30 a.m. to 3 p.m.
| • Location: The regulated area includes all waters of Friendship Harbor, Maine within the following points (NAD 83):
| 43°57′51″ N, 069°20′46″ W.
| 43°58′14″ N,069°19′53″ W.
| 43°58′19″ N, 069°20′01″ W.
| 43°58′00″ N, 069°20′46″ W.
7.8 Arthur Martin Memorial Regatta | • Event Type: Rowing and Paddling Boat Race.
| • Sponsor: IROW.
| • Date: July 16, 2011.
| • Time: 9 a.m. to 1 p.m.
| • Location: The regulated area includes all waters of the Piscataqua River, in the vicinity of Kittery Point, Maine within the following points (NAD 83):
| 43°03′51″ N, 070°41′55″ W.
| 43°04′35″ N, 070°42′18″ W.
| 43°04′42″ N, 070°43′15″ W.
| 43°05′14″ N, 070°43′12″ W.
| 43°05′14″ N, 070°43′06″ W.
| 43°04′44″ N, 070°43′11″ W.
| 43°04′35″ N, 070°42′13″ W.
| 43°03′53″ N, 070°41′40″ W.
7.9 Harpswell Lobster Boat Races | • Event Type: Power Boat Race.
| • Sponsor: Harpswell Lobster Boat Race Committee.
| • Date: July 24, 2011.
| • Time: 10 a.m. to 3 p.m.
| • Location: The regulated area includes all waters of Potts Harbor, Maine within the following points (NAD 83):
| 43°46′50″ N, 070°01′37″ W.
| 43°46′50″ N, 070°01′18″ W.
| 43°46′28″ N, 070°01′36″ W.
| 43°46′28″ N, 070°01′19″ W.
8.0 | AUGUST
8.1 Eggemoggin Reach Regatta | • Event Type: Wooden Boat Parade.
| • Sponsor: Rockport Marine, Inc. and Brookline Boat Yard.
| • Date: August 6, 2011.
| • Time: 11 a.m. to 7 p.m.
| • Location: The regulated area includes all waters of Eggemoggin Reach and Jericho Bay in the vicinity of Naskeag Harbor, Maine within the following points (NAD 83):
| 44°15′16″ N, 068°36′26″ W.
| 44°12′41″ N, 068°29′26″ W.
| 44°07′38″ N, 068°31′30″ W.
| 44°12′54″ N, 068°33′46″ W.
8.2 Southport Rowgatta Rowing and Paddling Boat Race | • Event Type: Rowing and Paddling Boat Race.
| • Sponsor: Boothbay Region YMCA.
| • Date: August 13, 2011.
| • Time: 8 a.m. to 3 p.m.
| • Location: The regulated area includes all waters of Sheepscot Bay and Boothbay, on the shore side of Southport Island, Maine within the following points (NAD 83):
| 43°50′26″ N, 069°39′10″ W.
| 43°49′10″ N, 069°38′35″ W.
| 43°46′53″ N, 069°39′06″ W.
| 43°46′50″ N, 069°39′32″ W.
| 43°49′07″ N, 069°41′43″ W.
| 43°50′19″ N, 069°41′14″ W.
| 43°51′11″ N, 069°40′06″ W.
8.3 Winter Harbor Lobster Boat Races | • Event Type: Power Boat Race.
| • Sponsor: Winter Harbor Chamber of Commerce.
| • Date: August 13, 2011.
| • Time: 9 a.m. to 3 p.m.
| • Location: The regulated area includes all waters of Winter Harbor, Maine within the following points (NAD 83):
| 44°22′06″ N, 068°05′13″ W.
| 44°23′06″ N, 068°05′08″ W.
| 44°23′04″ N, 068°04′37″ W.
| 44°22′05″ N, 068°04′44″ W.
8.4 Lake Champlain Dragon Boat Festival | • Event Type: Rowing and Paddling Boat Race.
| • Sponsor: Dragonheart Vermont.
| • Date: August 7, 2011.
| • Time: 7 a.m. to 5 p.m.
| • Location: The regulated area includes all waters of Burlington Bay within the following points (NAD 83):
| 44°28′51″ N, 073°13′28″ W.
| 44°28′40″ N, 073°13′40″ W.
| 44°28′37″ N, 073°13′29″ W.
| 44°28′40″ N, 073°13′17″ W.
8.5 Merritt Brackett Lobster Boat Races | • Event Type: Power Boat Race.
| • Sponsor: Town of Bristol, Maine.
| • Date: August 14, 2011.
| • Time: 10 a.m. to 3 p.m.
| • Location: The regulated area includes all waters of Pemaquid Harbor, Maine within the following points (NAD 83):
| 43°52′16″ N, 069°32′10″ W.
| 43°52′41″ N, 069°31′43″ W.
| 43°52′35″ N, 069°31′29″ W.
| 43°52′09″ N, 069°31′56″ W.
8.6 Multiple Sclerosis Regatta | • Event Type: Regatta and Sailboat Race.
| • Sponsor: Maine Chapter, Multiple Sclerosis Society.
| • Date: August 16, 2011.
| • Time: 10 a.m. to 4 p.m.
| • Location: The regulated area for the start of the race includes all waters of Casco Bay, Maine in the vicinity of Peaks Island within the following points (NAD 83):
| 43°40′24″ N, 070°14′20″ W.
| 43°40′36″ N, 070°13′56″ W.
| 43°39′58″ N, 070°13′21″ W.
| 43°39′46″ N, 070°13′51″ W.
8.7 Multiple Sclerosis Harborfest Tugboat Race | • Event Type: Power Boat Race.
| • Sponsor: Maine Chapter, National Multiple Sclerosis Society.
| • Date: August 21, 2011.
| • Time: 10 a.m. to 3 p.m.
| • Location: The regulated area includes all waters of Portland Harbor, Maine in the vicinity of Maine State Pier within the following points (NAD 83):
| 43°40′25″ N, 070°14′21″ W.
| 43°40′36″ N, 070°13′56″ W.
| 43°39′58″ N, 070°13′21″ W.
| 43°39′47″ N, 070°13′51″ W.
9.0 | SEPTEMBER
9.1 Eastport Pirates Festival Lobster Boat Races | • Event Type: Power Boat Race.
| • Sponsor: Eastport Pirates Festival.
| • Date: September 11, 2011.
| • Time: 11 a.m. to 6 p.m.
| • Location: The regulated area includes all waters in the vicinity of Eastport Harbor, Maine within the following points (NAD 83):
| 44°54′14″ N, 066°58′52″ W.
| 44°54′14″ N, 068°58′56″ W.
| 44°54′24″ N, 066°58′52″ W.
| 44°54′24″ N, 066°58′56″ W.

Table 2
[For events described in 33 CFR 165.171]
6.0 | JUNE
6.1 Windjammer Days Fireworks | • Event Type: Fireworks Display.
| • Sponsor: Boothbay Harbor Region Chamber of Commerce.
| • Date: June 22, 2011.
| • Time: 8 p.m. to 10:30 p.m.
| • Location: In the vicinity of McFarland Island, Boothbay Harbor, Maine in approximate position:
| 43°50′38″ N, 069°37′57″ W (NAD 83).
7.0 | JULY
7.1 Burlington Independence Day Fireworks | • Event Type: Firework Display.
| • Sponsor: City of Burlington, Vermont.
| • Date: July 3, 2011.
| • Time: 9 p.m. to 11 p.m.
| • Location: From a barge in the vicinity of Burlington Harbor, Burlington, Vermont in approximate position:
| 44°28′31″ N, 073°13′31″ W (NAD 83).
7.2 Camden 3rd of July Fireworks | • Event Type: Fireworks Display.
| • Sponsor: Camden, Rockport, Lincolnville Chamber of Commerce.
| • Date: July 3, 2011.
| • Time: 8 p.m. to 10 p.m.
| • Location: In the vicinity of Camden Harbor, Maine in approximate position:
| 44°12′32″ N, 069°02′58″ W (NAD 83).
7.3 Bangor 4th of July Fireworks | • Event Type: Fireworks Display.
| • Sponsor: Bangor 4th of July Fireworks.
| • Date: July 4, 2011.
| • Time: 8 p.m. to 10:30 p.m.
| • Location: In the vicinity of the Bangor Waterfront, Bangor, Maine in approximate position:
| 44°47′27″ N, 068°46′31″ W (NAD 83).
7.4 Bar Harbor 4th of July Fireworks | • Event Type: Fireworks Display.
| • Sponsor: Bar Harbor Chamber of Commerce.
| • Date: July 4, 2011.
| • Time: 8 p.m. to 10:30 p.m.
| • Location: In the vicinity of Bar Harbor Town Pier, Bar Harbor, Maine in approximate position:
| 44°23′31″ N, 068° 12′15″ W (NAD 83).
7.5 Boothbay Harbor 4th of July Fireworks | • Event Type: Fireworks Display.
| • Sponsor: Town of Boothbay Harbor.
| • Date: July 4, 2011.
| • Time: 8 p.m. to 10:30 p.m.
| • Location: In the vicinity of McFarland Island, Boothbay Harbor, Maine in approximate position:
| 43°50′38″ N, 069° 37′57″ W (NAD 83).
7.6 Colchester 4th of July Fireworks | • Event Type: Fireworks Display.
| • Sponsor: Town of Colchester, Recreation Department.
| • Date: July 4, 2011.
| • Time: 8 p.m. to 10 p.m.
| • Location: In the vicinity of Bayside Beach and Mallets Bay in Colchester, Vermont at approximate position:
| 44°32′44″ N, 073°13′10″ W (NAD 83).
7.7 Eastport 4th of July Fireworks | • Event Type: Fireworks Display.
| • Sponsor: Eastport 4th of July Committee.
| • Date: July 4, 2011.
| • Time: 9 p.m. to 9:30 p.m.
| • Location: From the Waterfront Public Pier in Eastport, Maine at approximate position:
| 44°54′25″ N, 066° 58′55″ W (NAD 83).
7.8 Hampton Beach 4th of July Fireworks | • Event Type: Fireworks Display.
| • Sponsor: Hampton Beach Village District.
| • Date: July 4, 2011.
| • Time: 8:30 p.m. to 11 p.m.
| • Location: In the vicinity of Hampton Beach, New Hampshire in approximate position:
| 42°54′40″ N, 070° 48′31″ W (NAD 83).
7.9 Jonesport 4th of July Fireworks | • Event Type: Fireworks Display.
| • Sponsor: Jonesport 4th of July Committee.
| • Date: July 2, 2011.
| • Time: 9:30 p.m. to 10 p.m.
| • Location: In the vicinity of Beals Island, Jonesport, Maine in approximate position:
| 44°31′18″ N, 067° 36′43″ W (NAD 83).
7.10 Main Street Heritage Days 4th of July Fireworks | • Event Type: Fireworks Display.
| • Sponsor: Main Street Inc.
| • Date: July 4, 2011.
| • Time: 8 p.m. to 10:30 p.m.
| • Location: In the vicinity of Reed and Reed Boat Yard, Woolwich, Maine in approximate position:
| 43°54′56″ N, 069°48′16″ W (NAD 83).
7.11 Portland Harbor 4th of July Fireworks | • Event Type: Fireworks Display.
| • Sponsor: Department of Parks and Recreation, Portland, Maine.
| • Date: July 4, 2011.
| • Time: 8:30 p.m. to 10:30 p.m.
| • Location: In the vicinity of East End Beach, Portland, Maine in approximate position:
| 43°40′16″ N, 070°14′44″ W (NAD 83).
7.12 St. Albans Bay Day Fireworks | • Event Type: Fireworks Display.
| • Sponsor: St. Albans Area Chamber of Commerce.
| • Date: July 4, 2011.
| • Time: 9 p.m. to 10 p.m.
| • Location: From the St. Albans Bay dock in St. Albans Bay, Vermont in the approximate position:
| 44°48′25″ N, 073°08′23″ W (NAD 83).
7.13 Stonington 4th of July Fireworks | • Event Type: Fireworks Display.
| • Sponsor: Deer Isle—Stonington Chamber of Commerce.
| • Date: July 4, 2011.
| • Time: 8 p.m. to 10:30 p.m.
| • Location: In the vicinity of Two Bush Island, Stonington, Maine in approximate position:
| 44°08′57″ N, 068°39′54″ W (NAD 83).
7.14 Urban/EPIC Triathlon | • Event Type: Swim Event.
| • Sponsor: Tri-Maine Productions.
| • Date: July 9, 2011.
| • Time: 7 a.m. to 11 a.m.
| • Location: The regulated area includes all waters of Portland Harbor in the vicinity of East End Beach in Portland, Maine within the following points (NAD 83):
| 43°40′00″ N, 070°14′20″ W.
| 43°40′00″ N, 070°14′00″ W.
| 43°40′15″ N, 070°14′29″ W.
| 43°40′17″ N, 070°13′22″ W.
7.15 Tri for a Cure Triathlon | • Event Type: Swim Event.
| • Sponsor: Maine Cancer Foundation.
| • Date: July 31, 2011.
| • Time: 8 a.m. to 1 p.m.
| • Location: The regulated area includes all waters of Portland Harbor, Maine in the vicinity of Spring Point Light within the following points (NAD 83):
| 43°39′01″ N, 070°13′32″ W.
| 43°39′07″ N, 070°13′29″ W.
| 43°39′06″ N, 070°13′41″ W.
| 43°39′01″ N, 070°13′36″ W.
7.16 Richmond Days Fireworks | • Event Type: Fireworks Display.
| • Sponsor: Town of Richmond, Maine.
| • Date: July 30, 2011.
| • Time: 8 p.m. to 10 p.m.
| • Location: From a barge in the vicinity of the inner harbor, Tenants Harbor, Maine in approximate position:
| 44°08′42″ N, 068°27′06″ W (NAD83).
7.17 Colchester Triathlon | • Event Type: Swim Event.
| • Sponsor: Colchester Parks and Recreation Department.
| • Date: July 31, 2011.
| • Time: 7 a.m. to 11 a.m.
| • Location: The regulated area includes all waters of Malletts Bay on Lake Champlain, Vermont within the following points (NAD 83):
| 44°32′18″ N, 073°12′35″ W.
| 44°32′28″ N, 073°12′56″ W.
| 44°32′57″ N, 073°12′38″ W.
7.18 Peaks to Portland Swim | • Event Type: Swim Event.
| • Sponsor: Cumberland County YMCA.
| • Date: July 16, 2011.
| • Time: 7 a.m. to 1 p.m.
| • Location: The regulated area includes all waters of Portland Harbor between Peaks Island and East End Beach in Portland, Maine within the following points (NAD 83):
| 43°39′20″ N, 070°11′58″ W.
| 43°39′45″ N, 070°13′19″ W.
| 43°40′11″ N, 070°14′13″ W.
| 43°40′08″ N, 070°14′29″ W.
| 43°40′00″ N, 070°14′23″ W.
| 43°39′34″ N, 070°13′31″ W.
| 43°39′13″ N, 070°11′59″ W.
8.0 | AUGUST
8.1 Sprucewold Cabbage Island Swim | • Event Type: Swim Event.
| • Sponsor: Sprucewold Association.
| • Date: August 6, 2011.
| • Time: 1 p.m. to 6 p.m.
| • Location: The regulated area includes all waters of Linekin Bay between Cabbage Island and Sprucewold Beach in Boothbay Harbor, Maine within the following points (NAD 83):
| 43°50′37″ N, 069°36′23″ W.
| 43°50′37″ N, 069°36′59″ W.
| 43°50′16″ N, 069°36′46″ W.
| 43°50′22″ N, 069°36′21″ W.
8.2 Westerlund's Landing Party Fireworks | • Event Type: Fireworks Display.
| • Sponsor: Portside Marina.
| • Date: August 6, 2011.
| • Time: 8 p.m. to 10:30 p.m.
| • Location: In the vicinity of Westerlund's Landing in South Gardiner, Maine in approximate position:
| 44°10′19″ N, 069°45′24″ W (NAD 83).
8.3 Y-Tri Triathlon | • Event Type: Swim Event.
| • Sponsor: Plattsburgh YMCA.
| • Date: August 6, 2011.
| • Time: 9 a.m. to 10 a.m.
| • Location: The regulated area includes all waters of Treadwell Bay on Lake Champlain in the vicinity of Point Au Roche State Park, Plattsburgh, New York within the following points (NAD 83):
| 44°46′30″ N, 073°23′26″ W.
| 44°46′17″ N, 073°23′26″ W.
| 44°46′17″ N, 073°23′46″ W.
| 44°46′29″ N, 073°23′46″ W.
8.4 Greater Burlington YMCA Lake Swim | • Event Type: Swim Event.
| • Sponsor: Greater Burlington YMCA.
| • Date: August 13, 2011.
| • Time: 8 a.m. to 6 p.m.
| • Location: The regulated area includes all waters in Lake Champlain in the vicinity of North Hero Island within the following points (NAD 83):
| 44°46′55″ N, 073°22′14″ W.
| 44°47′08″ N, 073°19′05″ W.
| 44°46′48″ N, 073°17′13″ W.
| 44°46′10″ N, 073°16′39″ W.
| 44°41′08″ N, 073°20′58″ W.
| 44°41′36″ N, 073°23′01″ W.
8.7 Rockland Breakwater Swim | • Event Type: Swim Event.
| • Sponsor: Pen-Bay Masters.
| • Date: August 27, 2011.
| • Time: 7:30 a.m. to 1:30 p.m.
| • Location: The regulated area includes all waters of Rockland Harbor, Maine in the vicinity of Jameson Point within the following points (NAD 83):
| 44°06′16″ N, 069°04′39″ W.
| 44°06′13″ N, 069°04′36″ W.
| 44°06′12″ N, 069°04′43″ W.
| 44°06′17″ N, 069°04′44″ W.
| 44°06′18″ N, 069°04′40″ W.
9.0 | SEPTEMBER
9.1 Windjammer Weekend Fireworks | • Event Type: Fireworks Display.
| • Sponsor: Town of Camden, Maine.
| • Date: September 2, 2011.
| • Time: 8 p.m. to 9:30 p.m.
| • Location: From a barge in the vicinity of Northeast Point, Camden Harbor, Maine in approximate position:
| 44°12′10″ N, 069°03′11″ W (NAD 83).
9.2 The Lobsterman Triathlon | • Event Type: Swim Event.
| • Sponsor: Tri-Maine Productions.
| • Date: September 10, 2011.
| • Time: 8 a.m. to 11 a.m.
| • Location: The regulated area includes all waters in the vicinity of Winslow Park in South Freeport, Maine within the following points (NAD 83):
| 43°47′59″ N, 070°06′56″ W.
| 43°47′44″ N, 070°06′56″ W.
| 43°47′44″ N, 070°07′27″ W.
| 43°47′57″ N, 070°07′27″ W.
9.3 Burlington Triathlon | • Event Type: Swim Event.
| • Sponsor: Race Vermont.
| • Date: September 11, 2011.
| • Time: 7 a.m. to 10 a.m.
| • Location: The regulated area includes all waters in the vicinity of North Beach, Burlington, Vermont within the following points (NAD 83):
| 44°29′31″ N, 073°14′22″ W.
| 44°29′12″ N, 073°14′14″ W.
| 44°29′17″ N, 073°14′34″ W.
9.4 Eliot Festival Day Fireworks | • Event Type: Fireworks Display.
| • Sponsor: Eliot Festival Day Committee.
| • Date: September 23, 2011.
| • Time: 8 p.m. to 10:30 p.m.
| • Location: In the vicinity of Eliot Town Boat Launch, Eliot, Maine in approximate position:
| 43°08′56″ N, 070°49′52″ W (NAD 83).

The Coast Guard may patrol each event area under the direction of a designated Coast Guard Patrol Commander. The Patrol Commander may be contacted on Channel 16 VHF-FM (156.8 MHz) by the call sign “PATCOM.” Official patrol vessels may consist of any Coast Guard, Coast Guard Auxiliary, state, or local law enforcement vessels assigned or approved by the Captain of the Port, Sector Northern New England. For information about regulations and restrictions for waterway use during the effective periods of these events, please refer to 33 CFR 100.120 and 33 CFR 165.171.

This notice is issued under authority of 33 CFR 100.120, 33 CFR 165.171, and 5 U.S.C. 552 (a). In addition to this notice in the Federal Register, the Coast Guard will provide the maritime community with advance notification of this enforcement period via the Local Notice to Mariners and marine information broadcasts. If the COTP determines that the regulated area need not be enforced for the full duration stated in this notice, he or she may use a Broadcast Notice to Mariners to grant general permission to enter the regulated area.

Dated: May 9, 2011.
B.S. Gilda,
Commander, U.S. Coast Guard, Acting Captain of the Port Sector Northern New England.

[FR Doc. 2011-12847 Filed 5-24-11; 8:45 am]

BILLING CODE 9110-04-P